DEPARTMENT OF ENERGY

Federal Energy Regulatory Commission

Combined Notice of Filings #1

Take notice that the Commission received the following exempt wholesale generator filings:

Docket Numbers: EG26-85-000.

Applicants: Waco Solar II, LLC.

Description: Waco Solar II, LLC submits Notice of Self-Certification of Exempt Wholesale Generator Status.

Filed Date: 11/25/25.

Accession Number: 20251125-5382.

Comment Date: 5 p.m. ET 12/16/25.

Docket Numbers: EG26-86-000.

Applicants: Inertia Solar Project, LLC.

Description: Inertia Solar Project, LLC submits Notice of Self-Certification of Exempt Wholesale Generator Status.

Filed Date: 11/25/25.

Accession Number: 20251125-5383.

Comment Date: 5 p.m. ET 12/16/25.

Take notice that the Commission received the following Complaints and Compliance filings in EL Dockets:

Docket Numbers: EL26-29-000; QF01-84-003.

Applicants: Morgan Energy Center, LLC, Morgan Energy Center, LLC.

Description: Petition for Temporary Waiver of Operating and Efficiency Standards for Qualifying Cogeneration Facility of Morgan Energy Center, LLC.

Filed Date: 11/24/25.

Accession Number: 20251124-5445.

Comment Date: 5 p.m. ET 12/24/25.

Take notice that the Commission received the following electric rate filings:

Docket Numbers: ER21-2368-005.

Applicants: Chalk Point Power, LLC.

Description: Compliance filing: Compliance Filing to Offer of Settlement.

Filed Date: 12/2/25.

Accession Number: 20251202-5143.

Comment Date: 5 p.m. ET 12/23/25.

Docket Numbers: ER22-2569-005.

Applicants: Dickerson Power, LLC.

Description: Compliance filing: Compliance Filing to Offer of Settlement.

Filed Date: 12/2/25.

Accession Number: 20251202-5145.

Comment Date: 5 p.m. ET 12/23/25.

Docket Numbers: ER26-630-000.

Applicants: Duke Energy Progress, LLC.

Description: § 205(d) Rate Filing: DEP-NCEMPA Revised NITSA SA No. 268 to be effective 12/1/2025.

Filed Date: 12/1/25.

Accession Number: 20251201-5706.

Comment Date: 5 p.m. ET 12/22/25.

Docket Numbers: ER26-631-000.

Applicants: Pacific Gas and Electric Company.

Description: Informational Filing of 2026 Formula Rate Annual Update of Pacific Gas and Electric Company.

Filed Date: 12/1/25.

Accession Number: 20251201-5790.

Comment Date: 5 p.m. ET 12/22/25.

Docket Numbers: ER26-633-000.

Applicants: Petersburg Energy Center, LLC, Indianapolis Power & Light Company.

Description: Request for Authorization of Affiliate Transaction of Indianapolis Power & Light, et al.

Filed Date: 11/26/25.

Accession Number: 20251126-5489.

Comment Date: 5 p.m. ET 12/17/25.

Docket Numbers: ER26-634-000.

Applicants: Morongo Transmission LLC.

Description: § 205(d) Rate Filing: Annual TRBAA Filing 2026 to be effective 1/1/2026.

Filed Date: 12/2/25.

Accession Number: 20251202-5086.

Comment Date: 5 p.m. ET 12/23/25.

Docket Numbers: ER26-635-000.

Applicants: Arizona Public Service Company.

Description: Notice of Cancellation of Firm Point-to-Point Transmission Service Agreement of Arizona Public Service Company.

Filed Date: 12/2/25.

Accession Number: 20251202-5121.

Comment Date: 5 p.m. ET 12/23/25.

Docket Numbers: ER26-636-000.

Applicants: Tri-State Generation and Transmission Association, Inc.

Description: § 205(d) Rate Filing: Amendment to Rate Schedule No. 408 to be effective 12/3/2025.

Filed Date: 12/2/25.

Accession Number: 20251202-5147.

Comment Date: 5 p.m. ET 12/23/25.

Docket Numbers: ER26-637-000.

Applicants: Pineview Solar, LLC.

Description: Initial Rate Filing: Application for Market-Based Rate to be effective 1/14/2026.

Filed Date: 12/2/25.

Accession Number: 20251202-5151.

Comment Date: 5 p.m. ET 12/23/25.

Docket Numbers: ER26-638-000.

Applicants: PJM Interconnection, L.L.C.

Description: § 205(d) Rate Filing: Amendment to GIA & CSA, SA Nos. 7538 & 7539; Project Identifier No. AG1-324 to be effective 2/1/2026.

Filed Date: 12/2/25.

Accession Number: 20251202-5161.

Comment Date: 5 p.m. ET 12/23/25.

Docket Numbers: ER26-639-000.

Applicants: Ravenswood Operations, LLC, New York Independent System Operator, Inc.

Description: § 205(d) Rate Filing: New York Independent System Operator, Inc. submits tariff filing per 35.13(a)(2)(iii: Ravenswood 205: Fuel Oil Conversion Cost Reimbursement to be effective 12/3/2025.

Filed Date: 12/2/25.

Accession Number: 20251202-5162.

Comment Date: 5 p.m. ET 12/23/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 2, 2025.
Carlos D. Clay,
Deputy Secretary.

[FR Doc. 2025-22116 Filed 12-4-25; 8:45 am]

BILLING CODE 6717-01-P